DEPARTMENT OF AGRICULTURE

Forest Service

White River National Forest; Colorado; Sweetwater Lake Recreation Management and Development Project

AGENCY: Forest Service, Agriculture (USDA).

ACTION: Notice of intent to prepare an environmental impact statement.

SUMMARY: The Forest Service, U.S. Department of Agriculture, is preparing an environmental impact statement to evaluate the potential environmental impacts associated with the Sweetwater Lake Recreation Management and Development Project. This project encompasses 832 acres, including 488 acres acquired by the Forest Service in 2021, located on the White River National Forest on lands surrounding Sweetwater Lake in northeastern Garfield County, Colorado. The Forest Service proposes to improve recreation access and facilities and authorize a long-term special use permit to the Colorado Parks and Wildlife to manage the area. This project may require an amendment to the White River National Forest Land and Resource Management Plan (forest plan).

DATES: Comments concerning the scope of the analysis must be received by August 5, 2024. The draft environmental impact statement is expected February 2025, and the final environmental impact statement is expected February 2026.

ADDRESSES: Send written comments to Scott Fitzwilliams, White River National Forest Supervisor, c/o Leanne Veldhuis, District Ranger Eagle-Holy Cross Ranger District, White River National Forest, P.O. Box 190, Minturn, CO 81645. Comments may also be submitted electronically at https://cara.fs2c.usda.gov/Public//CommentInput?Project=64047 or submitted via facsimile to 970-827-9343.

FOR FURTHER INFORMATION CONTACT: Additional information related to the project can be obtained from the project web page at https://www.fs.usda.gov/project/whiteriver/?project=64047 or by contacting Leanne Veldhuis, District Ranger, Eagle-Holy Cross Ranger District, 24747 U.S. Hwy. 24, P.O. Box 190, Minturn, CO 81645. Ms. Veldhuis can be reached by phone at 970-827-5715 or by email at leanne.veldhuis@usda.gov. Individuals who use telecommunications devices for the hearing impaired may call 711 to reach the Telecommunications Relay Service, 24 hours a day, every day of the year, including holidays.

SUPPLEMENTARY INFORMATION: A successful grassroots effort within the local community, which included donations from Eagle County and the Town of Gypsum, was able to protect the area around Sweetwater Lake from private development with a purchase by The Conservation Fund. The Forest Service purchased the 488 acres surrounding Sweetwater Lake from The Conservation Fund to facilitate public access and maintain the natural resource-based recreational opportunities at the site.

Purpose and Need for Action

The purpose of the proposed action is to provide the public a natural resource-based recreational and educational experience at Sweetwater Lake that is reflective of the culture and history of the area while managing visitation at the appropriate scale for the long-term viability of the 832 acres surrounding the lake and its resources.

The actions proposed in the Sweetwater Lake Recreation Management and Development Project are needed to:

• Enhance and provide sustainable management of the public lands around Sweetwater Lake.

• Provide updated and sustainable nature-based recreational services to the public that are appropriate to the environment and are responsive to the recreational needs of the public.

• Improve the site's existing recreation infrastructure while providing updated facilities in alignment with applicable laws, policies, and known best practices.

• Develop and implement management strategies to reduce or mitigate potential impacts on the site's natural and cultural resources from public visitation.

• Provide for year-round on-site management, including oversight and management for all the site's resources and facilities.

• Provide public recreational, interpretative, and educational opportunities.

Proposed Action

The White River National Forest is proposing multiple actions to meet the purpose and need of the project, as described below.

Authorize a 20-year special use permit to Colorado Parks and Wildlife, under the Granger-Thye Act, to implement and maintain improvements described below and manage the area consistent with the purpose and need.

Redesign the current site to promote recreational opportunities at a scale that is compatible with the capacity of the project area, its resources, and the surrounding area. The proposed site design would minimize impacts to wildlife and natural resources by utilizing those areas and lands that have been previously disturbed and would include the following actions.

• Evaluate existing structures for retention with an emphasis on those buildings that provide the best opportunity to interpret the rich history at Sweetwater. If feasible, some structures may be restored to the historic character of their 1920-to-1940 construction and used as part of the cultural interpretative program for the site. Existing structures that are in a state of severe deferred maintenance and out of compliance with various laws, regulations, and policies may be removed.

• Develop a new campground area to provide 15 to 20 campsites in a historically disturbed area that currently contains little native vegetation (“lower pasture”).

• Construct 8 to 12 new cabins to provide an overnight recreation opportunity similar to that which historically existed in the vicinity. These cabins would be constructed with materials and architecture designed to provide a “rustic” western character similar to the styles of other cabins and lodges in the Flat Tops area of Colorado.

• Construct equestrian facilities in the “middle pasture.” Proposed facilities would include barn and stable operation, 4 to 7 overnight equestrian camping sites, and extra day-use parking for equestrian users. This area could also provide overnight parking and access to the surrounding Flat Tops Wilderness Area. This location is previously disturbed and is proposed for equestrian facilities to minimize the impact to the natural resources, while separating use between equestrians and other visitors.

• Develop additional lake access points. Any new access will include minimal disturbance to the lakeshore and lakeside willows by utilizing perpendicular-only paths through the willows to fishing docks or watercraft launching docks to minimize any disturbance on the lake edge.

• Convert the existing Forest Service campground and parking to day-use individual or group picnic sites and maintain the existing day-use trailhead and lake-access parking in this area.

• Construct a new lodge with administrative, educational, and interpretive spaces to enhance the visitor experience through site amenities and services. This new lodge building may offer small-scale food service capabilities such as a small coffee and pie shop or limited prepackaged food offerings that would align with Forest Service policies for providing food service on National Forest System lands while not necessitating an increase in wastewater accommodation. The construction of a group picnic site with a possible food truck or mobile kitchen parking will also be explored in this area for small events or day-to-day operations.

• Evaluate establishing day-use hiking and equestrian trails on the northeast side of the lake. These trails would provide loop trails and connections between the existing Ute Trail, to the new equestrian area, and the Keep Ditch Trail. These trails could provide an additional access to the Flat Tops Wilderness Area other than the existing Hilltop trailhead north of the project area. Evaluate establishing trails to a new overlook on the southwest side of the lake to provide an additional scenic overlook of the lake. Evaluate additional trails within the project area to highlight the historical significance of the site and its buildings as part of an interpretive trail system or provide other recreational opportunities.

• Construct appropriate maintenance facilities, equipment storage, and personnel housing necessary for management and maintenance.

• For the cave within the project area, develop a cave management plan in consultation with the tribes to ensure the vital cultural history is preserved and incorporate the plan into the proposed special use permit.

A map of the proposed project boundary and draft proposed action conceptional diagram are available on the project web page at https://www.fs.usda.gov/project/whiteriver/?project=64047.

The Forest Service would close the wetlands and the historic pasture north of the lake to human entry to preserve delicate ecologic resources. In addition, the proposed action will evaluate the need for ecosystem restoration in this area and authorize restoration actions, if needed.

The proposed action may require amending the forest plan. The project areas currently bounding the newly purchased property includes Management Area 5.41—Deer and Elk Winter Range to the north and Management Area 5.4—Forested Flora and Fauna Habitats to the south. Land acquisitions to the National Forest System generally adopt the adjacent management area prescription. The proposed action will be evaluated for forest plan consistency to determine the need for a plan amendment which could require modifications to some plan components or other plan content.

Lead and Cooperating Agencies

The lead agency for this project proposal is the Forest Service. Cooperating agencies include Garfield County, Eagle County, the Town of Gypsum, and Colorado Parks and Wildlife.

Responsible Official

The responsible official is Mr. Scott Fitzwilliams, White River National Forest Supervisor, White River National Forest, 900 Grand Ave., P.O. Box 948, Glenwood Springs, CO 81601.

Scoping Comments and the Objection Process

This notice of intent initiates the scoping process, which guides the development of the environmental impact statement. In this process the Forest Service is requesting comments on potential alternatives and impacts, and identification of any relevant information, including comments on aspects of the White River National Forest Land and Resource Management Plan (2002) that may guide or constrain activities described in the proposed action, or other studies or analyses concerning impacts affecting the quality of the human environment.

Multiple public engagement opportunities were held to inform the public and help shape this proposal. Online comment forms were available on the Eagle Valley Land Trust website from October 2021 to May 2023 and an online public survey was conducted in March 2023. Multiple public meetings in different locations were held in January and February 2022. A virtual “NEPA 101” training was provided in November 2022 and a virtual public meeting was held in November 2022. Forest Service and Colorado Parks and Wildlife leaders also met with twelve community members in a bi-weekly working group format (13 meetings) from October 2022 to May 2023 to bring community interest and ideas to the project as well as report back to the broader community. Forest Service and Colorado Parks and Wildlife leaders also conducted interviews with multiple stakeholders in the area and met regularly with the outfitter and guide who operated on the site under multiple private owners for almost 40 years. From July 2023 to January 2024, the Forest Service and the cooperating agencies have met approximately once a month for a total of seven (7) meetings to work through the project issues and address known public concerns in preparation for the scoping process. The scoping process will include three (3) public meetings in addition to the electronic or written comments to the Forest Service. Dates, times, and locations of the public meetings will be announced on the project web page at https://www.fs.usda.gov/project/whiteriver/?project=64047.

It is important that reviewers provide their comments at such times and in such manner that they are useful to the Agency's preparation of the final environmental impact statement; therefore, comments should be provided prior to the close of the comment period and should clearly articulate the reviewer's concerns and contentions. Commenting during scoping and any other designated opportunity to comment provided by the responsible official as prescribed by the applicable regulations will also govern eligibility to object once the final environmental impact statement and draft record of decision have been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with 36 CFR 218.5(a), 219.16, and 219.52, as applicable. Issues raised in objections must be based on previously submitted timely, specific written comments regarding the proposed project unless based on new information arising after designated opportunities.

Permits, Licenses, or Other Authorizations Required

This proposed action will consider the authorization of a long-term special use permit to Colorado Parks and Wildlife to operate and manage the site.

Nature of Decision To Be Made

Given the purpose and need, the responsible official will determine whether the proposed action complies with all applicable laws governing Forest Service actions and with the applicable standards and guidelines found in the forest plan; whether the environmental impact statement has sufficient site-specific environmental analysis to make an informed decision; and whether the proposed action meets the purpose and need for action. With this information, the responsible official must decide whether to select the proposed action or one of any other potential alternatives that may be developed, and what, if any, additional actions should be required.

Substantive Provisions

The following substantive provisions of the 2012 Planning Rule (36 CFR 219.8-11) may be directly related to the proposed forest plan amendment (219.13(b)(5)): 36 CFR 219.8(a) Ecological sustainability; 36 CFR 219.8 (b) Social and economic sustainability; 36 CFR 219.9(a) Ecosystem plan components; 36 CFR 219.9(b) Additional, species specific plan components; 36 CFR 219.9(c) Species of conservation of concern; 36 CFR 219.10(a) Integrated resource management for multiple use; and 36 CFR 219.10(a) Lands not suited for timber production.

Gregory C. Smith,
Associate Deputy Chief, National Forest System.

[FR Doc. 2024-09720 Filed 5-3-24; 8:45 am]

BILLING CODE 3411-15-P